DEPARTMENT OF ENERGY

International Energy Agency Meeting

AGENCY: Department of Energy.

ACTION: Notice of meetings.

SUMMARY: The Industry Advisory Board (IAB) to the International Energy Agency (IEA) will meet on November 17, 2005, at the headquarters of the IEA in Paris, France, in connection with a meeting of the IEA's Standing Group on Emergency Questions and the Standing Group on the Oil Market.

FOR FURTHER INFORMATION CONTACT: Samuel M. Bradley, Assistant General Counsel for International and National Security Programs, Department of Energy, 1000 Independence Avenue, SW., Washington, DC 20585, 202-586-6738.

SUPPLEMENTARY INFORMATION: In accordance with section 252(c)(1)(A)(i) of the Energy Policy and Conservation Act (42 U.S.C. 6272(c)(1)(A)(i)) (EPCA), the following notice of meeting is provided:

A meeting of the Industry Advisory Board (IAB) to the International Energy Agency (IEA) will be held at the headquarters of the IEA, 9, rue de la Fédération, Paris, France, on November 17, 2005, beginning at 8:30 a.m. The purpose of this notice is to permit attendance by representatives of U.S. company members of the IAB at a meeting of the IEA's Standing Group on Emergency Questions (SEQ), which is scheduled to be held at the IEA on November 17, beginning at 9:30 a.m., as well as a joint meeting of the SEQ and the IEA's Standing Group on the Oil Market (SOM) beginning in the afternoon, including a preparatory encounter among company representatives from 8:30 a.m. to approximately 9 a.m.. The agenda for the preparatory encounter is a review of the agenda of the meetings of the SEQ and of the SEQ/SOM.

The agenda for the SEQ and SEQ/SOM meetings is under the control of the SEQ and of the SOM. It is expected that the SEQ and SOM will adopt the following agenda:

1. Adoption of the Agenda

2. Approval of the Summary Record of the 114th Meeting and the Summary Record of the Ad Hoc SEQ Meeting

3. Program of Work

—Report on Governing Board Discussions on the Program of Work

4. Emergency Response Review Program

—Emergency Response Review of Austria

—Emergency Response Review of Denmark

—Emergency Response Review of Sweden

—Questionnaire Responses of:

—Canada

—United States

—Hungary

—Spain

—Updated Emergency Response Review Schedule

5. Report on Current Activities of the IAB

6. Policy and Other Developments in Member Countries

—Experiences of Member Countries with the IEA Collective Action

7. Other Emergency Response Activities

—Proposed SEQ Working Party on IEA Emergency Reserve Calculation Methodology

8. Activities with Non-Member Countries and International Organizations

—Update on Progress toward IEA Accession

—Poland

—Slovak Republic

—Updates on Planning for 10th International Energy Forum (Beijing, April 2006) and the IEF Secretariat

—Russian/Caspian Gas in Europe: Supply Risks

9. Documents for Information

—Emergency Reserve Situation of IEA Candidate Countries on July 1, 2005

—Monthly Oil Statistics: August 2005

—Update of Emergency Contacts List

10. Report on IEA Brainstorming

11. The Current Oil Market Situation

12. Status of the IEA Collective Action Agreed on September 2, 2005 in Response to Disrupted Oil Supplies

—Review of Recent IEA Emergency Activities

—Report on IEA Member Countries' Contributions to the IEA Initial Response of September 2005

—Review of the Emergency Data Collection Process

13. Other Business

—Dates of Next SEQ and SOM Meetings

As provided in section 252(c)(1)(A)(ii) of the Energy Policy and Conservation Act (42 U.S.C. 6272(c)(1)(A)(ii)), the meetings of the IAB are open to representatives of members of the IAB and their counsel; representatives of members of the IEA's Standing Group on Emergency Questions; representatives of the Departments of Energy, Justice, and State, the Federal Trade Commission, the General Accounting Office, Committees of Congress, the IEA, and the European Commission; and invitees of the IAB, the SEQ, or the IEA.

Issued in Washington, DC, November 4, 2005.
Samuel M. Bradley,
Assistant General Counsel for International and National Security Programs.

[FR Doc. 05-22473 Filed 11-9-05; 8:45 am]

BILLING CODE 6450-01-P